DEPARTMENT OF TRANSPORTATION

Federal Highway Administration

Environmental Impact Statement: Chittenden County, Vermont

AGENCY: Federal Highway Administration (FHWA), DOT.

ACTION: Notice of intent.

SUMMARY: The FHWA is issuing this notice to advise the public that a new supplement to a final environmental impact statement will be prepared for a proposed highway project in Chittenden County, Vermont, and that a 1984 supplement to the final environmental impact statement will not be completed.

FOR FURTHER INFORMATION CONTACT: Rob Sikora, Environmental Program Manager, Federal Highway Administration, P.O. Box 568, Montpelier, Vermont 05601. Telephone: 802-828-4433.

SUPPLEMENTARY INFORMATION: The FHWA, in cooperation with the Vermont Agency of Transportation (VTrans) and the City of Burlington, will prepare a supplement to the final Environmental Impact Statement (EIS) on a proposal to construct a new highway known as the Southern Connector/Champlain Parkway in the City of Burlington, Chittenden County, Vermont. The original EIS for the Southern Connector (FHWA-VT-EIS-77-02-F) was approved on July 3, 1979. As described in the 1979 EIS, the proposed improvements provide an undivided four-lane, limited access highway on new location, commencing at the interchange of I-189 with Shelburne Street (U.S. Route 7) and extending westerly and northerly to the intersection of Battery and King Streets in the Burlington Central Business District for a distance of about 2.5 miles.

A portion of the proposed project has been constructed. Preliminary design and right-of-way acquisition for an additional portion has been completed. The remaining segment has been delayed due to the fact that it traverses an EPA Superfund Site.

On August 29, 1984, FHWA issued a Notice of Intent to prepare a Supplemental EIS to address any additional environmental impacts caused by constructing the new highway in a wetland contaminated by hazardous waste from a coal gasification plant. A draft Supplemental EIS was approved by FHWA on December 6, 1984, and circulated for public and agency review and comment. Resolution of issues could not be reached and therefore a final Supplemental EIS has not been issued.

A Supplemental EIS (FHWA-VT-EIS-77-02-FS) was approved on February 18, 1997, that provided for the construction of a temporary detour around the Superfund Site along a combination of existing streets and new roadway. The detour was intended to allow interim operation of the Southern Connector/Champlain Parkway pending the resolution of issues related to the Superfund Site and completion of the 1984 Supplemental EIS. The temporary detour has not been constructed.

A new Supplemental EIS is being initiated because FHWA, VTrans, and the City of Burlington are now restudying the portion of the Southern Connector/Champlain Parkway between Lakeside Avenue and the intersection of Battery and King Streets to determine if permanently avoiding the Superfund Site would be appropriate. As a result, it is unnecessary to complete the Supplemental EIS initiated in 1984. In addition to impacts associated with avoiding the Superfund Site, the new Supplemental EIS will also evaluate the impacts of reducing the proposed highway to a two-lane facility.

Alternatives under consideration include (1) taking no action; (2) constructing through the Superfund Site on the approved location; and (3) a range of alternatives for permanently voiding the Superfund Site using a combination of existing streets and new location roadways.

Letters describing the proposed action and soliciting comments will be sent to appropriate Federal, State and local agencies, and to private organizations and citizens who have previously expressed or are known to have interest in this proposal. A public hearing will be held in Burlington. Public notice will be given of the time and place of the hearing. The draft Supplemental EIS will be available for public and agency review and comment prior to the public hearing. No formal scoping meeting is planned at this time.

To ensure that a full range of issues related to this proposed action are addressed and all significant issues identified, comments and suggestions are invited from all interested parties. Comments or questions concerning this proposed action and the Supplemental EIS should be directed to FHWA at the address provided above.

(Catalog of Federal Domestic Assistance Program Number 20.205, Highway Planning and Construction. The regulations implementing Executive Order 12372 regarding intergovernmental consultation on Federal programs and activities apply to this program.)

Issued on: December 23, 2003.
Kenneth R. Sikora, Jr.,
Environmental Program Manager, Montpelier, Vermont.

[FR Doc. 03-32159 Filed 12-30-03; 8:45 am]

BILLING CODE 4910-22-M